DEPARTMENT OF COMMERCE

Foreign Trade Zones Board

[Order No. 1073]

Disapproval of Subzone Status, Mani Can Corp., (Steel Cans), Mayaguez, Puerto Rico

Pursuant to its authority under the Foreign-Trade Zones Act of June 18, 1934, as amended (19 U.S.C. 81a-81u), the Foreign-Trade Zones Board (the Board) adopts the following Order:

Whereas, the Foreign-Trade Zones Act provides for “the establishment * * * of * * * foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Puerto Rico Industrial Development Company, grantee of Foreign-Trade Zone 7, has made application for authority to establish special-purpose subzone status at the steel can processing facilities of Mani Can Corporation (Inc.), located in Mayaguez, Puerto Rico (FTZ Docket 36-96, filed May 7, 1996);

Whereas, notice inviting public comment was given in the Federal Register (61 FR 24271, May 14, 1996); and,

Whereas, the Board adopts the findings and recommendations of the examiner's report, and finds that the requirements of the FTZ Act and Board's regulations have not been satisfied, and that approval of the application is not in the public interest;

Now, therefore, the Board hereby disapproves the application for subzone status at the easy-open steel can processing facilities of Mani Can Corporation (Inc.), located in Mayaguez, Puerto Rico.

Signed at Washington, DC, this 18th day of January 2000.
Robert S. LaRussa,
Assistant Secretary of Commerce for Import Administration, Alternate Chairman, Foreign-Trade Zones Board.
Attest:
Dennis Puccinelli,
Acting Executive Secretary.

[FR Doc. 00-2588 Filed 2-3-00; 8:45 am]

BILLING CODE 3510-DS-P